COURT SERVICES AND OFFENDER SUPERVISION AGENCY FOR THE DISTRICT OF COLUMBIA

SES Performance Review Board

AGENCY: Court Services and Offender Supervision Agency for the District of Columbia.

ACTION: Notice.

SUMMARY: Notice is hereby given of the appointment of new members to the Court Services and Offender Supervision Services for the District of Columbia (CSOSA) Senior Executive Service (SES) Performance Review Board (PRB). The PRB assures consistency, stability, and objectivity in the appraisal process.

DATES: Effective: November 1, 2025, to February 2026.

FOR FURTHER INFORMATION CONTACT: William Layne, Assistant Director, Human Capital Planning and Executive Resources, Court Services and Offender Supervision Agency for the District of Columbia, 800 North Capitol Street NW, Suite 701, Washington, DC 20002, (202) 220-5637.

SUPPLEMENTARY INFORMATION: Section 4314(c)(1) of Title 5 of the United States Code requires each agency to establish, in accordance with regulations prescribed by the Office of Personnel Management, one or more SES PRBs. Section 4314(c)(4) requires that notice of appointment of PRB members be published in the Federal Register. The PRB is responsible for making recommendations to the appointing and awarding authority on the performance appraisal ratings and performance awards for SES employees. Members of the PRB will serve a term that shall begin on November 1, 2025. The following executives have been designated as members of the Performance Review Board for CSOSA:

• Kraig E. Lattimore, Director, Resources Management Office, Office of General Counsel, U.S. Environmental Protection Agency

• Lori C. Abdin, HR Officer, Deputy Director, Operations & Administration Division, National Capital Planning Commission

• Kate Sheehey, Assistant Inspector General, Management, NASA Office of Inspector General

• LeVale Jenkins, Office Head, Office of Civil Rights, U.S. National Science Foundation

Dated: November 28, 2025.
Willis J. Stamps, II,
Supervisory Attorney-Advisor.

[FR Doc. 2025-21771 Filed 12-1-25; 8:45 am]

BILLING CODE 3129-04-P